DEPARTMENT OF HEALTH AND HUMAN SERVICES

Administration for Children and Families

Submission for OMB Review; Comment Request

Title: Accomplishments of the Domestic Violence Hotline, Online Connections and Text (ADVHOCaT) Study.

OMB No.: 0970-0468.

Description: The National Domestic Violence Hotline (The Hotline) and loveisrespect (LIR), which are supported by the Division of Family Violence Prevention and Services within the Family and Youth Services Bureau (FYSB) of the Administration for Children and Families (ACF), U.S. Department of Health and Human Services (HHS), serve as partners in the intervention, prevention, and resource assistance efforts of the network of family violence, domestic violence, and dating violence service providers. To describe the activities and accomplishments of The Hotline and LIR and develop potential new or revised performance measures, the ACF Office of Planning, Research and Evaluation (OPRE) and FYSB are proposing a data collection activity as part of the Accomplishments of the Domestic Violence Hotline, Online Connections and Text (ADVHOCaT) Study.

As part of the ongoing program activities and monitoring for The Hotline and LIR, ACF proposes to collect additional information via voluntary phone, chat, and Web-based surveys of individuals who contact The Hotline and LIR. Participants will complete an exit survey at the end of their contact with The Hotline and LIR, and a follow-up survey approximately two weeks later. The survey will include questions about reasons for contacting The Hotline/LIR, whether needs were met, satisfaction with services received, and helpfulness of information provided. This data collection builds on a previous data collection that was focused on understanding the preferred mode of contact by those who contact The Hotline and LIR. This new information will inform future efforts to monitor and improve the performance of domestic violence hotlines and provide hotline services.

Respondents: Individuals aged 18 and older who contact The Hotline and LIR via phone or chat.

Annual Burden Estimates
Instrument | Total number of respondents | Annual number of respondents | Number of responses per respondent | Average burden hours per response | Annual burden hours
The Hotline/LIR Baseline Survey | 2,200 | 1,100 | 1 | 0.15 | 165
The Hotline/LIR Follow Up Survey | 2,200 | 1,100 | 1 | .01 | 110

Estimated Total Annual Burden Hours: 275 hours.

Additional Information: Copies of the proposed collection may be obtained by writing to the Administration for Children and Families, Office of Planning, Research and Evaluation, 330 C Street SW., Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary Jones,
ACF/OPRE, Certifying Officer.

[FR Doc. 2017-08401 Filed 4-25-17; 8:45 am]

BILLING CODE 4184-32-P